DEPARTMENT OF JUSTICE

Notice of Lodging of Proposed Consent Decree Under the Clean Air Act

On October 31, 2017, the Department of Justice lodged a proposed consent decree with the United States District Court for the District of Colorado in the lawsuit entitled United States of America and the State of Colorado v. PDC Energy, Inc., Civil Action No. 1:17-cv-01552-MSK-MJW.

The lawsuit seeks injunctive relief and civil penalties for violations of the Clean Air Act, the Colorado Air Pollution Prevention and Control Act (“Colorado Act”), Colorado's federally approved State Implementation Plan (“Colorado SIP”), and Colorado Air Quality Control Commission Regulation Number 7 (“Regulation No. 7”) at tank batteries (referred to in the consent decree as “Tank Systems”) owned and operated by PDC Energy, Inc. (“PDC”) in a portion of the Denver-Julesburg Basin in Colorado (known as the “8-hour Ozone Control Area”) designated as non-attainment with the National Ambient Air Quality Standards for ground-level ozone. The violations relate to alleged failures to adequately design, operate, and maintain vapor control systems at the Tank Systems, resulting in emissions of volatile organic compounds (“VOC”) and other pollutants to the atmosphere.

The proposed consent decree covers PDC's Tank Systems in the 8-hour Ozone Control Area equipped with vapor control systems pursuant to Regulation No. 7 to achieve required system-wide emission reductions (more than 600 Tank Systems). The proposed decree requires PDC to perform injunctive relief, including conducting engineering evaluations of the vapor control systems at each of the Tank Systems and completing any necessary corrective actions to ensure that the vapor control systems are adequately designed and sized. PDC must also complete two environmental mitigation projects at a cost of $1.7 million and pay a $2.5 million civil penalty, $1 million of which is anticipated to be used to perform one or more State-Only Supplemental Environmental Projects. Entering into and fully complying with the proposed consent decree will release PDC from past civil liability at the Tank Systems and associated vapor control systems for violations of the Colorado SIP and Regulation No. 7 relating to VOC emissions from condensate storage tanks.

The publication of this notice opens a period for public comment on the consent decree. Comments should be addressed to the Assistant Attorney General, Environment and Natural Resources Division, and should refer to United States, et al. v. PDC Energy, Inc., D.J. Ref. No. 90-5-2-1-11467. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $25.25 (25 cents per page reproduction cost) payable to the United States Treasury.

Jeffrey Sands,
Assistant Section Chief, Environmental Enforcement Section, Environment and Natural Resources Division.

[FR Doc. 2017-24250 Filed 11-7-17; 8:45 am]

BILLING CODE 4410-15-P